ENVIRONMENTAL PROTECTION AGENCY

40 CFR Part 52

[EPA-R03-OAR-2010-0386; FRL-9164-7]

Approval and Promulgation of Air Quality Implementation Plans; Maryland; Revision to Emission Limitations for R. Paul Smith Power Station

AGENCY: Environmental Protection Agency (EPA).

ACTION: Proposed rule.

SUMMARY: EPA is proposing to approve a State Implementation Plan (SIP) revision submitted by the State of Maryland. This revision pertains to revised emission limitations for the R. Paul Smith Power Station located in Washington County. This action is being taken under the Clean Air Act (CAA).

DATES: Written comments must be received on or before July 19, 2010.

ADDRESSES: Submit your comments, identified by Docket ID Number EPA-R03-OAR-2010-0386 by one of the following methods:

A. http://www.regulations.gov. Follow the on-line instructions for submitting comments.

B. E-mail: fernandez.cristina@epa.gov

C. Mail: EPA-R03-OAR-2010-0386, Cristina Fernandez, Associate Director, Office of Air Program Planning, Mailcode 3AP30, U.S. Environmental Protection Agency, Region III, 1650 Arch Street, Philadelphia, Pennsylvania 19103.

D. Hand Delivery: At the previously-listed EPA Region III address. Such deliveries are only accepted during the Docket's normal hours of operation, and special arrangements should be made for deliveries of boxed information.

Instructions: Direct your comments to Docket ID No. EPA-R03-OAR-2010-0386. EPA's policy is that all comments received will be included in the public docket without change, and may be made available online at http://www.regulations.gov, including any personal information provided, unless the comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the electronic docket are listed in the http://www.regulations.gov index. Although listed in the index, some information is not publicly available, i.e., CBI or other information whose disclosure is restricted by statute. Certain other material, such as copyrighted material, is not placed on the Internet and will be publicly available only in hard copy form. Publicly available docket materials are available either electronically in http://www.regulations.gov or in hard copy during normal business hours at the Air Protection Division, U.S. Environmental Protection Agency, Region III, 1650 Arch Street, Philadelphia, Pennsylvania 19103. Copies of the State submittal are available at the Maryland Department of the Environment, 1800 Washington Boulevard, Suite 705, Baltimore, Maryland 21230.

FOR FURTHER INFORMATION CONTACT: Marilyn Powers, (215) 814-2308, or by e-mail at powers.marilyn@epa.gov.

SUPPLEMENTARY INFORMATION: Throughout this document, whenever “we,” “us,” or “our” is used, we mean EPA.

I. Background

On December 15, 2009, the Maryland Department of the Environment (MDE) submitted a revision to the Maryland SIP. The SIP revision (#09-04) pertains to changes in emission limitations for the R. Paul Smith Power Station in Washington County. This facility had annual nitrogen oxides (NOx), ozone season NOx, and sulfur oxides (SO2) emission limits that were established under EPA-approved Maryland regulation COMAR 26.11.27—Emission Limitations for Power Plants, which was adopted by the State to meet statutory requirements under the Maryland Healthy Air Act (HAA). The HAA allows R. Paul Smith to operate without complying with the emission limitations set forth in this statute if PJM Interconnection, Inc. (PJM) determines that termination of operation of the facility will adversely affect the reliability of electrical service in the PJM region. Subsequent to Maryland's adoption of COMAR 26.11.27 and EPA's approval of the rule into the Maryland SIP, PJM determined that the R. Paul Smith facility is needed to maintain electricity reliability in the State. The HAA requires that if R. Paul Smith units 3 and 4 are allowed to operate without complying with the emissions limitations established in the statute, certain conditions must be met. These conditions require that the facility operate at emissions levels that are lower than the highest level measured at the facility during the calendar years from 2000 through 2004, and that MDE review the operations of the facility, then adopt regulations to establish an alternative emissions requirement for the facility. In accordance with these statutory requirements, MDE revised COMAR 26.11.27 to establish alternative emission limits for these two Electric Generating Units at R. Paul Smith.

II. Summary of SIP Revision

COMAR 26.11.27 is revised to establish new emission limitations for R. Paul Smith Power Station. The NOx annual tonnage limits for R. Paul Smith is revised from 416 tons to 1390 tons starting with the 2009 control period, the NOx ozone season limit is revised from 140 tons to 545 tons starting with the 2009 ozone season, and the SO2 annual tonnage is revised from 1002 tons to 4590 tons starting with the 2009 control period.

Because the SIP revision increases emissions from this facility, MDE was required to meet section 110(l) of the CAA. Section 110(l) requires that the revision not interfere with any applicable requirement concerning attainment and reasonable further progress, or any other applicable requirement of section 110. EPA's analysis confirmed that the SIP revision does not interfere with any section 110(l) requirements. A more detailed discussion of EPA's rationale for approval of this Maryland SIP revision may be found in the technical support document (TSD) for this action.

III. Proposed Action

EPA is proposing to approve the SIP revision submitted by the State of Maryland on December 15, 2009. The SIP revision incorporates revisions to the emission limitations that apply to the R. Paul Smith Power Station in Washington County. EPA is soliciting public comments on the issues discussed in this document. These comments will be considered before taking final action.

IV. Statutory and Executive Order Reviews

Under the Clean Air Act, the Administrator is required to approve a SIP submission that complies with the provisions of the Act and applicable Federal regulations. 42 U.S.C. 7410(k); 40 CFR 52.02(a). Thus, in reviewing SIP submissions, EPA's role is to approve state choices, provided that they meet the criteria of the Clean Air Act. Accordingly, this action merely proposes to approve state law as meeting Federal requirements and does not impose additional requirements beyond those imposed by state law. For that reason, this proposed action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the Clean Air Act; and

• Does not provide EPA with the discretionary authority to address, as appropriate, disproportionate human health or environmental effects, using practicable and legally permissible methods, under Executive Order 12898 (59 FR 7629, February 16, 1994).

In addition, this proposed rule approving revisions to the emission limitations for R. Paul Smith Power Station does not have tribal implications as specified by Executive Order 13175 (65 FR 67249, November 9, 2000), because the SIP is not approved to apply in Indian country located in the state, and EPA notes that it will not impose substantial direct costs on tribal governments or preempt tribal law.

List of Subjects in 40 CFR Part 52

Environmental protection, Air pollution control, Nitrogen dioxide, Ozone, Particulate matter, Sulfur oxides.

Authority: 42 U.S.C. 7401 et seq.

Dated: June 7, 2010.
W.C. Early,
Acting Regional Administrator, Region III.

[FR Doc. 2010-14779 Filed 6-17-10; 8:45 am]

BILLING CODE 6560-50-P